DEPARTMENT OF COMMERCE

National Institute of Standards and Technology

[Docket No. 120823388-3175-02]

National Cybersecurity Center of Excellence (NCCoE) Secure Exchange of Electronic Health Information Demonstration Project

AGENCY: National Institute of Standards and Technology, Department of Commerce.

ACTION: Notice.

SUMMARY: The National Institute of Standards and Technology (NIST) is extending the deadline for submission of certification letters in order to allow additional time for partners and organizations to provide products and technical expertise to support and demonstrate security platforms for exchange of electronic health care information by healthcare providers. Participation in the project is open to all interested organizations.

DATES: Interested parties must contact NIST to request a certification letter. Completed and signed certification letters will be accepted on an ongoing basis until further notice. When NIST determines a date when certification letters will no longer be accepted, NIST will publish a notice in the Federal Register 60 days prior to that termination date.

ADDRESSES: The NCCoE is located at 9600 Gudelsky Drive, Rockville, MD 20850. Certification letters must be submitted to Karen Waltermire via email at NCCoE@nist.gov; or via hardcopy to NCCoE, National Institute of Standards and Technology; 100 Bureau Drive; MS 2000 Gaithersburg, MD 20899.

FOR FURTHER INFORMATION CONTACT: Karen Waltermire via email at NCCoE@nist.gov; or telephone 301-975-4500; NCCoE, National Institute of Standards and Technology; 100 Bureau Drive; MS 2000; Gaithersburg, MD 20899. Additional details about the Secure Exchange of Electronic Health Information project will be available at: http://nccoe.nist.gov/hit.

SUPPLEMENTARY INFORMATION: On January 15, 2013, the National Institute of Standards and Technology's (NIST) National Cybersecurity Center of Excellence (NCCoE) invited organizations to provide products and technical expertise to support and demonstrate security platforms for exchange of electronic health care information by healthcare providers (78 FR 2953). The due date for submission of all certification letters was 5 p.m. Eastern Time, Friday, March 1, 2013. The NIST NCCoE is seeking additional partners to collaborate on the Secure Exchange of Electronic Health Information Demonstration Project and is extending the due date indefinitely. The NIST NCCoE will accept signed certification letters until NIST determines submissions are no longer necessary. NIST will provide the public with 60 days notice prior to ending the period for acceptance of certification letters. Certification letters received after Friday, March 1, 2013 and before publication of this notice are deemed to be timely.

Process: NIST is soliciting responses from all sources of relevant security capabilities (e.g., vendors, academia, and integrators). Interested parties should contact NIST using the information provided in the FOR FURTHER INFORMATION CONTACT section of this notice. Each interested party will be provided with a certification letter, which the party must complete and submit to NIST. The certification letter must be completed and submitted to NIST by the responding organization. NIST will contact interested parties if there are questions regarding the responsiveness of the certification letters to the project objective or project requirements identified below. NIST will select participants who have submitted complete certification letters on a first come, first served basis within each category of product components or capabilities listed below up to the number of participants in each category necessary to carry out this project. Selected participants will be required to enter into a consortium Cooperative Research and Development Agreement (CRADA) with NIST. NIST published a notice in the Federal Register on October 19, 2012 (77 FR 64314), inviting U.S. companies to enter into “National Cybersecurity Excellence Partnerships” (NCEPs) in furtherance of the NCCoE. For this demonstration project NCEP partners will not be given priority for participation.

For additional information on the NCCoE governance, business processes, and NCCoE operational structure, visit the NCCoE Web site http://csrc.nist.gov/nccoe.

Dated: March 1, 2013.
Willie E. May,
Associate Director for Laboratory Programs.

[FR Doc. 2013-06020 Filed 3-14-13; 8:45 am]

BILLING CODE 3510-13-P